OFFICE OF PERSONNEL MANAGEMENT

Federal Prevailing Rate Advisory Committee; Cancellation of Upcoming Meeting

AGENCY: U.S. Office of Personnel Management.

ACTION: Notice.

SUMMARY: The Federal Prevailing Rate Advisory Committee is issuing this notice to cancel the November 17, 2011, public meeting scheduled to be held in Room 5A06A, U.S. Office of Personnel Management Building, 1900 E Street NW., Washington, DC. The original Federal Register notice announcing this meeting was published Monday, December 6, 2010, at 75 FR 75706.

FOR FURTHER INFORMATION CONTACT: Madeline Gonzalez, (202) 606-2838; email pay-leave-policy@opm.gov; or FAX: (202) 606-4264.

U.S. Office of Personnel Management.
Sheldon Friedman,
Chairman, Federal Prevailing Rate Advisory Committee.

[FR Doc. 2011-29274 Filed 11-10-11; 8:45 am]

BILLING CODE 6325-49-P